DEPARTMENT OF DEFENSE

Defense Acquisition Regulations System

48 CFR Part 216

Types of Contracts

CFR Correction

In Title 48 of the Code of Federal Regulations, Chapter 2, Parts 200 to 299, revised as of October 1, 2014, on page 111, redesignate section 216.405-270 as section 216.405-2-70.

[FR Doc. 2015-14527 Filed 6-12-15; 8:45 am]

BILLING CODE 1505-01-D